DEPARTMENT OF DEFENSE

Office of the Secretary

Record of Decision for the Long Range Discrimination Radar Operations at Clear Air Force Station, Alaska

AGENCY: Missile Defense Agency, Department of Defense (DoD).

ACTION: Record of decision.

SUMMARY: The Missile Defense Agency (MDA), as lead agency, and the Department of the Air Force (DAF), as a cooperating agency, are issuing this joint Record of Decision (ROD) to implement changes in operational concept for the Long Range Discrimination Radar (LRDR) located at Clear Air Force Station (CAFS), Alaska. This decision includes modification of the LRDR operational requirements and procedures to reflect continuous operations in response to emerging threats. This action will enable the MDA to meet its congressional mandate to fully support the primary mission of the layered Missile Defense System (MDS) to provide continuous and precise tracking and discrimination of long-range missile threats launched against the United States (U.S.).

FOR FURTHER INFORMATION CONTACT: For further information on the LRDR CAFS Final Environmental Impact Statement (EIS) or this ROD, please contact Mr. Ryan Keith, MDA Public Affairs, at 256-450-1599 or by email at lrdr.info@mda.mil. Downloadable electronic versions of the Final EIS and ROD are available on MDA's website at https://www.mda.mil/system/lrdr.

SUPPLEMENTARY INFORMATION: This ROD documents the following:

• The decision;

• The alternatives considered in reaching the decision and the alternative considered to be environmentally preferable;

• Relevant factors that were considered among the alternatives and how those factors entered into the decision; and

• Whether all practicable means to avoid or minimize environmental impacts resulting from the selected alternative have been adopted, and if not, why they were not.

A. MDA and DAF Decision

The MDA and the DAF are issuing this ROD, selecting the Proposed Action as described in the LRDR CAFS EIS to operate the LRDR on a continuous basis. The operational concept would change from the initial concept to maintain the LRDR in a readiness posture with limited operations and no additional airspace restrictions. The change in LRDR operations will create a hazard in areas of the National Airspace System where high-intensity radiated fields (HIRF) will exceed Federal Aviation Administration (FAA) certification standards for aircraft electrical and electronic systems. Therefore, the DAF, on behalf of the MDA, requested the FAA to expand the existing restricted airspace at CAFS, as described in the LRDR CAFS Final EIS, to address this hazard.

B. FAA Role

The FAA is a cooperating agency on the LRDR CAFS EIS because it has special expertise and jurisdiction by law, pursuant to 49 U.S. Code (U.S.C.) § 40101 et seq., for aviation and regulation of air commerce in the interests of aviation safety and efficiency. The MDA will request the FAA, as a cooperating agency, to consider and adopt, in whole or in part, the Final EIS as the required National Environmental Policy Act (NEPA) documentation to support FAA decisions on the establishment of Restricted Areas. The airspace associated with the Proposed Action and alternative lies within the jurisdiction of the FAA Anchorage Air Route Traffic Control Center.

FAA proposes to establish six new restricted areas and make related changes in airspace management. FAA will issue a separate ROD addressing its actions related to restricting the flight of aircraft.

C. Background

Within the DoD, MDA is responsible for developing, testing, and fielding an integrated, layered MDS to defend the U.S. and its deployed forces, allies, and friends against all ranges of enemy missile threats in all phases of flight. The layered MDS is a defensive system consisting of land-, sea-, space-, and air-based weapon, sensor, communications, and command and control elements that are used to detect and defeat incoming missile threats. As part of the layered MDS, the LRDR will be the lead sensor in a new class of radars optimized to identify threat objects in complex, dense target environments, and to enhance efficient deployment of MDS weapons to intercept such threats.

In response to the congressional mandate to deploy the LRDR, MDA completed a siting analysis that selected CAFS out of 50 candidate Department of Defense installations in Alaska. In June 2016, MDA and DAF prepared an Environmental Assessment (EA) to evaluate the potential environmental impacts associated with the construction and operation of the LRDR at CAFS. The 2016 EA resulted in a Finding of No Significant Impact (FONSI), and construction of the LRDR began in July 2017. The operational concept for the LRDR analyzed in the 2016 EA and FONSI was to maintain the LRDR in a readiness posture. Since that time, due to emerging threats, MDA identified a need to modify the LRDR operational requirements and procedures to reflect continuous operations.

D. NEPA Process

The LRDR CAFS EIS complies with NEPA, as amended; the Council on Environmental Quality Regulations for implementing NEPA; and agency-specific NEPA-implementing policies and procedures for the MDA, DAF, and FAA.¹

¹ Note: This EIS was ongoing prior to the 14 September 2020 effective date of the Council on Environmental Quality's (CEQ's) final rule updating its regulations for implementing the procedural provisions of NEPA. Accordingly, the revised CEQ regulations were not used for this action pursuant to 40 Code of Federal Regulations § 1506.13.

The MDA initiated a 45-day formal scoping period by publishing a Notice of Intent to prepare an EIS in the Federal Register on May 17, 2019. The MDA held public scoping meetings in Anchorage, Fairbanks, and Anderson, Alaska. Forty-two formal comments were received during the scoping comment period. The scoping comments focused primarily on aviation navigational safety; added flight times and expense; human safety; and potential impacts on private airstrips, Clear Airport, and the U.S. Air Force Auxiliary Civil Air Patrol Alaska Wing Glider Academy (CAP Glider Academy) for youth. These topics were addressed in the Draft EIS.

The Notice of Availability (NOA) for the LRDR CAFS Draft EIS was published in the Federal Register on October 28, 2020, announcing a 52-day comment period beginning October 30, 2020. During this time, public comment meetings were held virtually and consisted of an online open house and a telephone public meeting. The MDA received comments on the Draft EIS from 10 parties, which included individuals, agencies, and organizations. Commenters requested changes to the proposed Restricted Areas, more information about communication methods if Restricted Areas are activated at unscheduled times, and mitigation for climate change and air quality impacts. The comments were taken into consideration during preparation of the Final EIS. The NOA for the LRDR CAFS Final EIS was published in the Federal Register on May 7, 2021 (86 FR 24599-24600). This ROD is the culmination of the NEPA process.

E. Alternatives Considered

1. Proposed Action—Continuous LRDR Operation and FAA Actions

The Proposed Action consists of both MDA and FAA actions. Due to emerging threats, the MDA proposes to modify the LRDR operational requirements and procedures to reflect continuous operations. The operational concept would change from the initial concept to maintain the LRDR in a readiness posture with limited operations and no additional airspace restrictions. Because of the proposed changes to LRDR operations, airspace restrictions at CAFS are necessary to ensure that aircraft would not encounter HIRF resulting from the LRDR operations that exceed FAA's HIRF certification standards for aircraft electrical and electronic systems. The proposed airspace restrictions include expanding the existing Restricted Area (R-2206) at CAFS by adding six new Restricted Areas. If necessary, the FAA would implement temporary flight restrictions (TFRs) until those Restricted Areas are in effect. The FAA also proposes changes to federal airways and instrument flight procedures to accommodate the new Restricted Areas.

2. No Action Alternative

Under the No Action Alternative, the MDA would operate the LRDR in a manner that would contain HIRF within the existing R-2206 such that the FAA would not need to take new actions to limit aircraft flight.

3. Two-Tier Alternative

Under the two-tier alternative, the existing R-2206 would be expanded with two new Restricted Areas. The two-tier alternative was presented during the scoping process but was eliminated from further analysis.

F. Environmental Impacts

The LRDR CAFS EIS analyzed the impacts of the Proposed Action and No Action Alternative within 14 environmental categories: Airspace management; air quality; biological resources; climate; hazardous materials, solid waste, and pollution prevention; historical, architectural, archaeological, and cultural resources; land use; natural resources and energy supply; noise and compatible land use; safety; socioeconomics and environmental justice; subsistence; visual effects; and water resources. The potential for cumulative impacts was also evaluated in the EIS.

Under the No Action Alternative, the MDA would operate the LRDR in such a way that would contain HIRF within the existing R-2206, except during a national security crisis. No new actions would be taken to limit use of affected airspace, with the exception of temporary measures during a national security crisis. The No Action Alternative would not result in any new impacts associated with the environmental categories. However, the LRDR would not meet current operational requirements for the MDS and would not have the ability to adapt to rapidly evolving adversary tactics and technologies.

MDA's proposed change in LRDR operations would have no impact or negligible adverse impacts on all of the environmental categories except airspace management, which would have negligible to minor adverse impacts. The change to continuous LRDR operations would create a hazard in areas of the National Airspace System where the HIRF would exceed FAA certification standards for aircraft electrical and electronic systems, necessitating the FAA to take actions to restrict the flight of aircraft in this airspace.

The proposed changes related to restricting the flight of aircraft would have no impact or negligible adverse impacts on all environmental categories except airspace management and socioeconomics, which would have minor adverse impacts. Although overall adverse impacts on socioeconomics would be negligible to minor, relocation of the CAP Glider Academy from Clear Airport to another airport would result in moderate adverse impacts, based on currently available information and conservative assumptions.

The following is a brief summary of the Proposed Action's impacts on airspace management and socioeconomics.

1. Airspace Management

The primary impact of MDA's continuous operation of the LRDR would be to increase the airspace at CAFS where the HIRF would exceed FAA certification standards for aircraft electrical and electronic systems. To address this hazard, the FAA would expand the existing Restricted Area (R-2206) by adding six new Restricted Areas (R-2206B through R-2206G) to create a total of seven Restricted Areas at CAFS. Four of the Restricted Areas would be active continuously. The remaining three (R-2206D, R-2206E, and R-2206F) would be active only from 2:00 a.m. to 4:00 a.m. local Alaska time every Tuesday, Thursday, and Saturday; at other prescheduled times by Notice to Airmen; and as necessary in response to national security events.

Based on current air traffic and accounting for growth of aviation activity, the FAA estimates up to five daily (1,825 annual) instrument flight rule (IFR) flights would be affected by the proposed Restricted Areas. Those five flights are calculated from accumulated daily activity across the following: Airway J-125, airway V-436, and direct flights that depart Anchorage headed toward Deadhorse, Alaska. Up to an estimated 10 daily (3,650 annual) visual flight rule (VFR) flights would be affected. If TFRs are necessary before Restricted Areas are in effect, the affected IFR flights would be rerouted by air traffic control, VFR aircraft would detour to avoid the TFRs, some instrument flight procedures would not be available, and air traffic control would need to manually direct the affected IFR flights. Once the amended procedures and redesigned airways are established, air traffic control would cease to manually direct IFR flights through the area. Some flight paths would be longer, resulting in slight increases in flight times and operation costs as well as slight increases in air emissions and fuel use.

The lowest floor of the proposed Restricted Areas would be 400 feet above ground level (AGL) (1,000 feet mean sea level at CAFS). VFR aircraft would be able and allowed to fly beneath the proposed Restricted Areas, although aircraft are allowed to fly below 500 feet AGL only if taking off or landing. The six privately owned airstrips beneath the proposed Restricted Areas would remain accessible. Pilots would still be able to use Windy Pass for transiting between Interior Alaska and Southcentral Alaska. Additionally, except for the periods during which R-2206D, R-2206E, and R-2206F would be active, aircraft would be able to navigate along Parks Highway, which is used as a visual navigation aid, as long as they stay below an altitude of 2,600 feet AGL (3,200 feet mean sea level) within 0.5 nautical mile of the highway.

Access to Clear Airport would normally be unavailable from the north and west during the times when R-2206D, R-2206E, and R-2206F are active. While prescheduled restrictions would be unlikely to affect users, provisions would be in place to allow emergency aircraft and medical evacuation flights, as well as aircraft in emergency circumstances, into and out of Clear Airport during these times. The MDA is also working with the DoD, FAA, and DAF to identify appropriate notification procedures to alert aircraft when Restricted Areas are activated outside of prescheduled periods, including methods of rapidly notifying pilots of changes in Restricted Area status. Potential notification options being considered include a combination of radio broadcast on a common traffic advisory frequency and high-intensity warning lights. This notification process would be addressed in a Letter of Procedure.

2. Socioeconomics

FAA's actions related to restricting the flight of aircraft would result in slightly increased flight times, which would result in increased costs to aircraft operators both during the interim phase, if necessary, and once the redesigned airways are established. These economic impacts would be spread across the entire potentially affected aviation industry in Alaska. FAA's actions would not affect the provision of public services associated with aviation in the study area communities.

The CAP Glider Academy could no longer conduct its glider instruction at Clear Airport due to the proposed Restricted Areas and would have to relocate to another airport such as Ladd Army Airfield or Fort Greely. The impacts of relocation would be minimized if the Civil Air Patrol is able to negotiate a long-term arrangement for operation of the Glider Academy that provides participants with no-cost lodging or camping options and discounted meal service. Arrangements for relocating the CAP Glider Academy have not been completed, and costs associated with the new location are not known.

G. Mitigation Measures and Monitoring

Since development of the initial concept for expanding the restricted airspace at CAFS, as described in the LRDR CAFS Final EIS, the design of the proposed Restricted Areas has been refined to further minimize impacts on the aviation community based on feedback from pilot associations, public safety organizations and first responders, and airspace user groups. The MDA did not identify any significant environmental impacts arising from the Proposed Action and, therefore, is not identifying specific mitigation measures. All practicable means to mitigate impacts associated with the decision have been considered.

H. Environmentally Preferred Alternative

Based on the findings of the EIS, the No Action Alternative would be the environmentally preferred alternative because the existing Restricted Area at CAFS would not need to be expanded. The operations at Clear Airport would not be affected, and FAA's proposed modifications to federal airways and instrument flight procedures would not be necessary. However, the LRDR would not meet current operational requirements for the layered MDS and would not have the ability to adapt to rapidly evolving adversary tactics and technologies, nor would it satisfy the purpose or need for the Proposed Action.

I. Decision

In accordance with NEPA, we have considered the information contained within the LRDR CAFS EIS, comments from the public, input from regulatory agencies, LRDR system capabilities, the analysis of the missile threat to the U.S., layered MDS performance and operational effectiveness, and other relevant factors in deciding whether to operate the LRDR continuously at CAFS.

We have decided to select the Proposed Action over the No Action Alternative. Although the No Action Alternative would have fewer environmental impacts, it would not fully support the primary mission of the layered MDS to provide continuous and precise tracking and discrimination of missile threats launched against the U.S. The LRDR would not meet current operational requirements for the MDS and would not have the ability to adapt to rapidly evolving adversary tactics and technologies.

Dated: June 11, 2021.
Aaron T. Siegel,
Alternate OSD Federal Register Liaison Officer, Department of Defense.

[FR Doc. 2021-13406 Filed 6-23-21; 8:45 am]

BILLING CODE 5001-06-P